ENVIRONMENTAL PROTECTION AGENCY

40 CFR Part 751

[EPA-HQ-OPPT-2024-0403; FRL-11628-02-OCSPP]

RIN 2070-AL16

N-(1,3-Dimethylbutyl)-N′-phenyl-p-phenylenediamine (6PPD) and its transformation product, 6PPD-quinone; Regulatory Investigation under the Toxic Substances Control Act (TSCA); Extension of the Comment Period

AGENCY: Environmental Protection Agency (EPA).

ACTION: Advance notice of proposed rulemaking, extension of the comment period.

SUMMARY: In the Federal Register of November 19, 2024, EPA issued an advance notice of proposed rulemaking soliciting public comment on and any additional information relevant to the potential risks associated with N-(1,3-Dimethylbutyl)-N′-phenyl-p-phenylenediamine (6PPD) (CASRN 793-24-8, DTXSID 9025114) and its transformation product, 6PPD-quinone (CASRN 2754428-18-5, DTXSID 301034849). EPA is soliciting that information, along with information about potential alternatives and regulatory options, to help inform the Agency's consideration of potential future regulatory actions under the Toxic Substances Control Act (TSCA). With this document, EPA is extending the comment period by 60 days, from January 21, 2025, to March 24, 2025.

DATES: The comment period for the document that published on November 19, 2024, at 89 FR 91299) (FRL-11628-01-OCSPP) is extended. Comments must be received on or before March 24, 2025.

ADDRESSES: Submit your comments, identified by docket identification (ID) number EPA-HQ-OPPT-2024-0403, using the Federal eRulemaking Portal at http://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For technical information: Wyn Zenni, Existing Chemicals Risk Management Division (7404M), Office of Pollution Prevention and Toxics, Environmental Protection Agency, 1200 Pennsylvania Ave. NW, Washington, DC 20460-0001; telephone number: (202) 565-6294; email address: zenni.wyn@epa.gov.

For general information on TSCA: The TSCA Hotline, ABVI-Goodwill, 422 South Clinton Ave. Rochester, NY 14620; telephone number: (202) 554-1404; email address: TSCA-Hotline@epa.gov.

SUPPLEMENTARY INFORMATION:

To give stakeholders additional time to review materials and prepare comments, EPA is hereby extending the comment period established in the Federal Register of November 19, 2024, (89 FR 91299) (FRL-11628-01-OCSPP) for an additional 60 days, from January 21, 2025, to March 24, 2025. This extension is in response to requests that EPA received which asked for additional time to develop and submit comments. After considering several factors, EPA believes it is appropriate to extend the comment period for 60 days to give stakeholders additional time to prepare comments. More information about the advance notice of proposed rulemaking can be found in the Federal Register document of November 19, 2024.

To submit comments or access the docket, please follow the detailed instructions provided under ADDRESSES. If you have questions, consult the technical person listed under FOR FURTHER INFORMATION CONTACT.

List of Subjects in 40 CFR Part 751

Chemicals, Environmental protection, Exports, Hazardous substances, Imports, Reporting and recordkeeping requirements.

Authority: 15 U.S.C. 2605(a).

Dated: January 7, 2025.
Michal Freedhoff,
Assistant Administrator, Office of Chemical Safety and Pollution Prevention.

[FR Doc. 2025-00731 Filed 1-16-25; 8:45 am]

BILLING CODE 6560-50-P